DEPARTMENT OF THE INTERIOR

National Park Service

Star Spangled Banner National Historic Trail Study

AGENCY: National Park Service.

ACTION: Notice of Intent to prepare an Environmental Impact Statement and to Hold Public Scoping Meetings for the Star Spangled Banner National Historic Trail Study.

SUMMARY: This notice announces the intent to prepare an environmental impact statement and hold public scoping meetings for the Star Spangled Banner National Historic Trail Study.

Public Law 106-135 authorizes the Star-Spangled Banner National Historic Trail Study to determine the suitability and desirability of designating as a national historic trail the route of the 1812 British invasion of Maryland and Washington, DC, and of the American defense. The proposed trail traces: the arrival of the British fleet in the Patuxent River; the landing of British forces at Benedict; the sinking of the Chesapeake Flotilla at Pig Point in Price George's County and Anne Arundel County, Maryland; the American defeat at the Battle of Bladensburg; the siege of the Nation's Capital; the British naval diversions in the upper Chesapeake Bay leading to the Battle of Caulk's Field in Kent County, Maryland; and, the route of the American troops from Washington through Georgetown, the Maryland Counties of Montgomery, Howard, and Baltimore, Americans at Fort McHenry on September 14, 1814.

Three public meetings will be held in January 2001 to discuss the Star Spangled Banner National Historic Trail Study being undertaken by the National Park Service and to conduct scoping for an associated Environmental Impact Statement. Public Law 106-135 authorizes the study of a proposed trail following the route of the 1814 British invasion up the Patuxent River to Washington, DC, and their defeat at Baltimore, MD. The first meeting will be held on Wednesday, January 10, 2001, 6-8 pm, Ft. Henry Visitor Center, Auditorium, Baltimore, MD. The second meeting will be held on Wednesday, January 17, 2001, 5-7 pm. HNTB Offices, 421 7th St., NW., Washington, DC. The third meeting will be held form 6:30-8:30 pm, Calvert County Public Library, Prince Frederick, MD.

For more information look at www.nps.gov/chal/sp/ or contact William Sharp, Planner, National Park Service, 200 Chestnut St., Philadelphia, PA 19106, 215-597-1655, william_sharp@nps.gov.

Dated: December 7, 2000.
Dale Ditmanson,
Acting Northeast Region Director.

[FR Doc. 00-32471 Filed 12-20-00; 8:45 am]

BILLING CODE 4310-70-M